FEDERAL COMMUNICATIONS COMMISSION

[OMB 3060-1151; FR ID 204394]

Information Collection Being Reviewed by the Federal Communications Commission

AGENCY: Federal Communications Commission.

ACTION: Notice and request for comments.

SUMMARY: As part of its continuing effort to reduce paperwork burdens, and as required by the Paperwork Reduction Act (PRA) of 1995, the Federal Communications Commission (FCC or the Commission) invites the general public and other Federal agencies to take this opportunity to comment on the following information collection. Comments are requested concerning: whether the proposed collection of information is necessary for the proper performance of the functions of the Commission, including whether the information shall have practical utility; the accuracy of the Commission's burden estimate; ways to enhance the quality, utility, and clarity of the information collected; ways to minimize the burden of the collection of information on the respondents, including the use of automated collection techniques or other forms of information technology; and ways to further reduce the information collection burden on small business concerns with fewer than 25 employees.

DATES: Written PRA comments should be submitted on or before April 29, 2024. If you anticipate that you will be submitting comments, but find it difficult to do so within the period of time allowed by this notice, you should advise the contact listed below as soon as possible.

ADDRESSES: Direct all PRA comments to Nicole Ongele, FCC, via email PRA@fcc.gov and to nicole.ongele@fcc.gov.

FOR FURTHER INFORMATION CONTACT: For additional information about the information collection, contact Nicole Ongele, (202) 418-2991.

SUPPLEMENTARY INFORMATION: The FCC may not conduct or sponsor a collection of information unless it displays a currently valid control number. No person shall be subject to any penalty for failing to comply with a collection of information subject to the PRA that does not display a valid Office of Management and Budget (OMB) control number.

OMB Control Number: 3060-1151.

Title: Sections 1.1411, 1.1412, 1.1415, and 1.1416 Pole Attachment Access and Dispute Resolution Requirements.

Form Number: FCC Form 5653.

Type of Review: Revision of a currently-approved collection.

Respondents: Business or other for-profit.

Number of Respondents and Responses: 1,380 respondents; 165,009 responses.

Estimated Time per Response: 0.25-5 hours.

Frequency of Response: On-occasion reporting requirement, recordkeeping requirement, and third-party disclosure requirement.

Obligation to Respond: Mandatory or required to obtain or retain benefits. Statutory authority for this information collection is contained in 47 U.S.C. 224.

Total Annual Burden: 120,980 hours.

Total Annual Cost: $1,800.

Needs and Uses: The Commission is requesting Office of Management and Budget (OMB) approval for a revision to a currently approved information collection. In Accelerating Wireline Broadband Deployment by Removing Barriers to Infrastructure Investment, WC Docket No. 17-84, Fourth Report and Order, FCC 23-109 (rel. December 15, 2023) (Order), the Commission adopted rules that implement the pole attachment requirements in section 224 of the Communications Act of 1934, as amended. The Order substantially revised 47 CFR 1.1411, redesignated existing 47 CFR 1.1415 as 47 CFR 1.1416, and added a new 47 CFR 1.1415.

Section 1.1411. In the Order, the Commission adopted regulations requiring utilities to share information about their poles with prospective telecommunications and cable attachers. The Commission created this requirement to help improve the attachment process and potentially reduce disputes, thus facilitating broadband deployment. Specifically, the Order requires utilities to provide to potential attachers, upon request, the information contained in their most recent cyclical pole inspection reports, or any intervening, periodic reports created before the next cyclical inspection, for the poles covered by a submitted attachment application, including whether any of the affected poles have been “red tagged” by the utility for replacement and the scheduled replacement date or timeframe (if any). For the purposes of this new transparency requirement, a cyclical pole inspection report is any report that a utility creates in the normal course of its business that sets forth the results of the routine inspection of its poles during the utility's normal pole inspection cycle, while a periodic pole inspection report is any report that a utility creates in the normal course of its business that sets forth the results of the inspection of any of its poles outside the utility's normal pole inspection cycle.

When asking for information about the status of a utility's poles for a planned buildout, the attacher must submit its information request no earlier than contemporaneously with an attachment application. The utility will have ten business days to respond to the request. Where an attacher amends its application based on the information it receives from the utility, the utility will have the option to restart the 45-day period for responding to the application on the merits and conducting the required make-ready survey. Regardless of whether the utility elects to restart the 45-day response period, any additional survey costs necessitated by the amended application, such as a second survey after a survey for the original application has been completed, will be borne by the new attacher consistent with the new attacher's obligation to pay for make-ready costs associated with its application.

The Commission also required utilities to retain copies, in whatever form they were created, of any such cyclical or periodic pole inspection reports they conduct in the normal course of business, until such time as the utility completes a superseding cyclical pole inspection report covering the poles included in the attachment application. The Commission reiterated that utilities are required to provide only the information they already possess and track in the normal course of conducting pole inspections at the time of the attacher's request for data. The Commission did not require utilities to collect or create new information for the purpose of responding to such requests or to provide all information they may possess on the affected poles outside their pole inspection reports. The Commission found that adopting this limited requirement achieves a balance between a potential attacher's need for more information about the poles that it plans to use as part of a broadband buildout and the utility's interest in minimizing the burden of mandatory disclosures.

Section 1.1415. To expedite the resolution of pole attachment disputes that impede or delay active broadband deployment projects, the Commission established the Rapid Broadband Assessment Team (RBAT), which will consist of one or more staff from the Commission's Enforcement Bureau and one or more staff from the Commission's Wireline Competition Bureau. The Commission created the RBAT in an effort to make the Commission's pole attachment dispute resolution process more responsive and adaptable with the goal of facilitating broadband deployment. The Order charged the RBAT with expediting the resolution of such disputes by swiftly engaging key stakeholders, gathering relevant information, distilling issues in dispute, and recommending to the parties, where appropriate, an abbreviated mediation process, placement of a complaint (or portion of a complaint) on the Commission's Accelerated Docket based on consideration of specified criteria, and/or any other action that the RBAT determines will help the parties resolve their dispute.

To request RBAT review and assessment of a dispute that a party to the dispute contends is impeding or delaying deployment of broadband facilities, the party must first notify the Chief of the Enforcement Bureau's Market Disputes Resolution Division (MDRD) of the request by phone and in writing. The MDRD Chief will direct the party to FCC Form 5653—Request for RBAT Review and Assessment—on the MDRD website and to instructions for completing and electronically transmitting the form to the RBAT. The form will elicit information relevant to the scope and nature of the dispute, and to whether the dispute is appropriate for expedited mediation and/or placement on the Accelerated Docket. The information submitted by a party on the FCC Form 5653 will assist the RBAT in efficiently reviewing and assessing the party's dispute and in providing guidance on the most effective means of resolving it. The RBAT also may request that one or both parties provide the RBAT with documentation or other information relevant to the dispute. After reviewing the parties' submissions, the RBAT will provide guidance and advice to the parties on the most effective means of resolving their dispute, including staff-supervised mediation, use of the Accelerated Docket, and/or other action.

Should the RBAT recommend staff-supervised mediation, it shall be conducted pursuant to 47 CFR 1.737, the requirements of which may be modified or waived as appropriate in this context or as needed in light of the facts or circumstances of a particular case. In the event that the parties are unable to settle their dispute, and a prospective complainant seeks placement of its complaint on the Accelerated Docket, the RBAT will decide whether the complaint or a portion of the complaint is suitable for inclusion on the Accelerated Docket based on a totality of the factors listed in 47 CFR 1.1415(e).

Federal Communications Commission.
Marlene Dortch,
Secretary, Office of the Secretary.

[FR Doc. 2024-04019 Filed 2-26-24; 8:45 am]

BILLING CODE 6712-01-P